DEPARTMENT OF THE INTERIOR

National Park Service

Notice of Intent to Repatriate a Cultural Item in the Possession of the Antelope Valley Indian Museum, Lancaster, CA, and in the Control of the California Department of Parks and Recreation, Sacramento, CA

AGENCY: National Park Service, Interior.

ACTION: Notice.

Notice is hereby given in accordance with the Native American Graves Protection and Repatriation Act (NAGPRA), 43 CFR 10.10 (a)(3), of the intent to repatriate a cultural item in the possession of the Antelope Valley Indian Museum, Lancaster, CA, and in the control of the California Department of Parks and Recreation, Sacramento, CA, that meets the definition of “unassociated funerary object” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The one cultural item is a wedding blanket made of white cotton. The dates of fabrication and/or use are unknown. The blanket was donated by an unidentified resident of Oraibi Village, Third Mesa, in Arizona, to the Antelope Valley Indian Museum, Lancaster, CA, in 1954. The owner of the museum, Grace W. Oliver, donated the blanket to the California Department of Parks and Recreation in 1979.

Departmental records indicate that it was taken from a burial cave that was disturbed as a result of construction activities. Information provided by representatives of the Hopi Tribe of Arizona and of the village of Oraibi substantiates cultural affiliation of the blanket with the Hopi Tribe of Arizona.

Based on the above-mentioned information, officials of the California Department of Parks and Recreation have determined that, pursuant to 43 CFR 10.2 (d)(2)(ii), this cultural item is reasonably believed to have been placed with or near individual human remains at the time of death or later as part of the death rite or ceremony and is believed, by a preponderance of the evidence, to have been removed from a specific burial site of an Native American individual. Officials of the California Department of Parks and Recreation also have determined that, pursuant to 43 CFR 10.2 (e), there is a relationship of shared group identity, that can be reasonably traced between this item and the Hopi Tribe of Arizona.

This notice has been sent to officials of the Hopi Tribe of Arizona. Representatives of any other Indian tribe that believes itself to be culturally affiliated with this unassociated funerary object should contact Paulette Hennum, NAGPRA Coordinator, California Department of Parks and Recreation, 1416 9th Street, Room 902, Sacramento, CA 95814, telephone (916) 653-7976, before August 12, 2002. Repatriation of this unassociated funerary object to the Hopi Tribe of Arizona may begin after that date if no additional claimants come forward.

Dated: May 16, 2002.
Paula Molloy,
Acting Manager, National NAGPRA Program.

[FR Doc. 02-17085 Filed 7-10-02; 8:45 am]

BILLING CODE 4310-70-S